DEPARTMENT OF LABOR

Employment and Training Administration

Comment Request for Information Collection for Registered Apprenticeship-College Consortium

AGENCY: Employment and Training Administration (ETA), Labor.

ACTION: Notice, extension without change.

SUMMARY: The Department of Labor (Department), as part of its continuing effort to reduce paperwork and respondent burden, conducts a preclearance consultation program to provide the general public and federal agencies with an opportunity to comment on proposed and/or continuing collections of information in accordance with the Paperwork Reduction Act of 1995 [44 U.S.C. 3506(c)(2)(A)] (PRA). The PRA helps to ensure that respondents can provide data in the desired format with minimal reporting burden (time and financial resources), collection instruments are clearly understood, and the impact of collection requirements on respondents can be properly assessed.

Currently, ETA is soliciting comments concerning the collection of data about the Registered Apprenticeship-College Consortium, which expires August 31, 2016.

DATES: Submit written comments to the office listed in the addressee's section below on or before May 16, 2016.

ADDRESSES: Send written comments to Laura Ginsburg, Office of Apprenticeship, Room C-5321, Employment and Training Administration, U.S. Department of Labor, 200 Constitution Avenue NW., Washington, DC 20210. Telephone number: 202-693-2796 (this is not a toll-free number). Individuals with hearing or speech impairments may access the telephone number above via TTY by calling the toll-free Federal Information Relay Service at 1-877-889-5627 (TTY/TDD). Fax: 202-693-3799. Email: ginsburg.laura@dol.gov. To obtain a copy of the proposed information collection request (ICR), please contact the person listed above.

SUPPLEMENTARY INFORMATION:

I. Background

The data collection includes three application forms to establish membership in the Registered Apprenticeship-College Consortium. The three types of membership are: Two- and four-year post-secondary institutions, Registered Apprenticeship sponsors, and organizations and associations that represent institutions or sponsors on a national, regional or state level and serve in a coordinating role to facilitate membership in the consortium. At the September 2011 meeting of the Secretary's Advisory Committee on Apprenticeship (ACA) a unanimous proposal was adopted to form a national consortium based on the Servicemembers Opportunity Colleges Consortium (SOC) model, which is a consortium of colleges that provides college articulation for soldiers and veterans who accumulate credits at a number of colleges. The SOC is supported by the Department of Defense. The ACA also adopted the Registered Apprenticeship-College Consortium Articulation Framework which outlines the goals of the consortium, the principles that guide the effort, conditions of membership, and criteria. The ACA authorizes this information collection.

II. Review Focus

The Department of Labor is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: Extension without changes.

Title: Registered Apprenticeship-College Consortium.

OMB Number: 1205-0512.

Affected Public: Federal Government; State, Local, and Tribal Governments; and Private Sector—Businesses or other for-profit and not-for profit institutions.

Estimated Total Annual Respondents: 165 per year or 495 over three years.

Annual Frequency: Bi-annual (i.e., once every two years.

Estimated Total Annual Responses: 165.

Average Estimated Response Time per Response: 10 minutes.

Estimated Total Annual Burden Hours: 31 hours.

Total Annual Estimated Burden Cost for Respondents: $843.00.

We will summarize and/or include in the request for OMB approval of the ICR, the comments received in response to this comment request; they will also become a matter of public record.

Portia Wu,
Assistant Secretary for Employment and Training, Labor.

[FR Doc. 2016-06020 Filed 3-16-16; 8:45 am]

BILLING CODE 4510-FR-P